ENVIRONMENTAL PROTECTION AGENCY

[FRL-6707-9]

Science Advisory Board; Notification of Public Advisory Committee Meeting

Pursuant to the Federal Advisory Committee Act, Public Law 92-463, notice is hereby given that a committee of the US EPA Science Advisory Board (SAB) will meet on the dates and times noted. All times noted are Eastern Standard Time. The meeting is open to the public, however, seating is limited and available on a first come basis.

Environmental Engineering Committee (EEC)—June 28, 2000

The Environmental Engineering Committee of the US EPA Science Advisory Board (SAB), will hold a consultative Workshop on the Diffusion and Adoption of Innovations in Environmental Protection on June 28, 2000 in conference room 5530, USEPA, Ariel Rios Building North, 1200 Pennsylvania Avenue, NW., Washington, DC 20004. The meeting will begin by 9:00 a.m. and adjourn no later than 5:30 p.m.. The purpose of the meeting and availability of review materials were described in the Federal Register on May 22, 2000 (65 FR 32089-32090) when a public teleconference call to plan the workshop was announced.

For Further Information

Any member of the public wishing further information concerning this meeting or wishing to submit brief oral comments (10 minutes or less) must contact Dr. Angela Nugent, Designated Federal Officer, Science Advisory Board (1400A), U.S. Environmental Protection Agency, 1200 Pennsylvania Avenue, NW, Washington, DC 20460; telephone (202) 564-4562; FAX (202) 501-0582; or via e-mail at nugent.angela@epa.gov. Requests for oral comments must be in writing (e-mail, fax or mail) and received by Dr. Nugent by noon Eastern Standard Time on Wednesday, June 21, 2000.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 35 copies of their comments for public distribution.

Meeting Access

Individuals requiring special accommodation at this meeting, including wheelchair access to the conference room, should contact the DFO at least five business days prior to the meeting so that appropriate arrangements can be made.

Dated: May 26, 2000.
Donald G. Barnes,
Staff Director, Science Advisory Board.

[FR Doc. 00-13847 Filed 6-1-00; 8:45 am]

BILLING CODE 6560-50-P